NATIONAL SCIENCE FOUNDATION

Sunshine Act Meeting

Agency Holding Meeting: National Science Foundation, National Science Board and its Subdivisions.

Date and Time: May 21, 2003: 8:30 a.m.-4 p.m.—Open Session

Concurrent Sessions:

11:30 a.m.-1 p.m.—Closed Session

1:15 p.m.-1:45 p.m.—Closed Session

3:30 p.m.-4 p.m.—Closed Session

3:15 p.m.-3:30 p.m.—Closed Session

May 22, 2003: 8 a.m.-3:30 p.m.—Open Session

Concurrent Sessions:

8 a.m.-10:05 a.m.—Closed Session

8:30 a.m.-9 a.m.—Closed Session

12 Noon-1 p.m.—Closed Session

Place: The National Science Foundation, 4201 Wilson Boulevard, Arlington, VA 22230, www.nsf.gov/nsb.

Contact for Information: NSF Information Center (703) 292-5111.

Status: Part of this meeting will be closed to the public. Part of this meeting will be open to the public.

Matters to be Considered:

Wednesday, May 21, 2003

Open

Task Force on S&E Infrastructure (8:30 a.m.-9:30 a.m.), Room 1235

• Discussion of the Final Report (NSB-02-190)

• Discussion of Report Dissemination Plan

Task Force on National Workforce Policy for S&E (8:30 a.m.-9:30 a.m.), Room 1295

• Comments received from NSB members on the draft of May 9 (NSB-03-69)

• Outreach plan for public comment

• Schedule to August

Committee on Education and Human Resources (9:30 a.m.-11:30 a.m.), Room 1235

• Report from the Task Force on NWP

• Reports from working groups on NSF K-12, undergraduate and graduate programs

• Report from the Subcommittee on S&E Indicators

• Focus on the Future—Nurturing Discovery: Biological Education for the 21st Century

• Report from the AD for SBE

• Report from the AD for EHR

• Update on the ‘Broadening Participation’ Workshop

Subcommittee on S&E Indicators (Part I, 9:30 a.m.-11:30 a.m.), Room 1295

• Discussion of Reviews, S&E Indicators 2004:

—Chapter 7, Public Attitudes & Public Understanding

—Chapter 3, S&E Workforce

—Chapter 4, U.S. & International R&D

—Chapter 6, Industry, Technology & the Global Marketplace

Executive Committee (1 p.m.-1:15 p.m.), Room 1295

• Welcome new members

Subcommittee on S&E Indicators (Part II, 1:45 p.m.-2:45 p.m.), Room 1295

• Discussion of Reviews, S&E Indicators 2004, continued—Chapter 2, Higher Education in S&E

• Report on the May 12 and May 14 teleconferences

• Preliminary comments, Chapter 5, Academic R&D

Committee on Strategy and Budget (2 p.m.-4 p.m.), Room 1235

• Discussion of the Draft NSF Strategic Plan

• NSF Long-Range Planning

Subcommittee on Polar Issues (2:45 p.m.-4:15 p.m.), Room 1295

• OPP Director's Update

• USAP Safety and Health Audit

[Closed session 3:15-3:35, see below]

• USAP IT Security

• Arctic Social Science and Education

• Polar Class Ice Breakers

Closed

Plenary Session of the Board (11:30 a.m.-1 p.m.), Room 1235

• Executive Committee Elections

• FY 2004 NSB Budget

Executive Committee (1:15 p.m.-1:45 p.m.), Room 1295

• Specific Personnel Matters

• Future NSF Budgets

Committee on Strategy and Budget (3:30 p.m.-4 p.m.), Room 1235

• Preliminary Discussion of the FY 2005 Budget

Subcommittee on Polar Issues (3:15 p.m.-3:30 p.m.), Room 1295

• Award Action: Office of Polar Programs

Thursday, March 13, 2003

Closed

Committee on Programs and Plans (8 a.m.-10 a.m.), Room 1235

• Award Action: Directorate for Computer and Information Sciences Engineering

• Award Actions: Division of Atmospheric Sciences

• Award Action: Division of Earth Sciences

• Award Action: Office of Polar Programs

Committee on Audit and Oversight (8:30 a.m.-9 a.m.), Room 1295

• OIG Briefing on the status of an ongoing investigation

Plenary Session of the Board (12 Noon-1 p.m.), Room 1235

• NSF FY 05 Budget

• Awards & Agreements

Open

Committee on Programs and Plans (10:05 a.m.-11:15 a.m.), Room 1235

• Information Item: Recompetition of the Management of the National Astronomy and Ionosphere Center (NAIC)

• Report on the Spring Meeting of the MREFC Panel

• Infrastructure Task Force/Final Report

Committee on Audit & Oversight (9 a.m.-11:30 a.m.), Room 1295

• OIG Semiannual Report

• GAO's coverage of NSF and scientific research

• Update on settlement of court case involving NSF awardee

• FY 2002 Merit Review Report

• CIO update

• CFO update

• NAPA Review update

Plenary Session of the Board (1 p.m.-3:30 p.m.), Room 1235

• 2004 Meeting Calendar

• Guidelines on NSB Task Forces

• NSF Strategic Plan, 2003-2008

• NSF Long-Range Planning

• Director's Merit Review Report

• OIG Semiannual Report

• Minutes, March 2003

• Closed Items, August 2003

• Chairman's Report

• Director's Report

• Committee Reports

• Presentation: NSDL: Web-Enabled Education Strategies

Gerard Glaser,
Executive Officer, NSB.

[FR Doc. 03-12575 Filed 5-15-03; 11:35 am]

BILLING CODE 7555-01-M